DEPARTMENT OF AGRICULTURE

Submission for OMB Review; Comment Request

November 3, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by December 8, 2016 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Child and Adult Care Food Program (CACFP) Family Day Care Homes Meal Claims Feasibility Study.

OMB Control Number: 0584-NEW.

Summary of Collection: To comply with the Improper Payments Elimination and Recovery Act (IPERA) of 2010 and the Improper Payments Elimination and Recovery Improvement Act of 2012 (IPERIA), the Food and Nutrition Service (FNS) needs a reliable methodology to estimate erroneous payments for provider meal claims in the CACFP. The objective of this feasibility study is to design and test a data collection method that enables FNS to estimate erroneous payments due to meals claimed improperly by family day care home providers participating in the CACFP. Specifically, the study focuses on accurately estimating meals that are claimed but not served.

Need and Use of the Information: This study will collect real-time attendance and meal-serving information from participating providers and parents. FNS will use this data to identify and test a data collection method that will accurately estimate erroneous payments due to meals that are claimed improperly by FDCHs participating in the CACFP. FNS needs to collect this information to accurately estimate errors in meal claims in order to fulfill the requirements under the IPERA and the IPERIA to identify and reduce erroneous payments in the CACFP.

Description of Respondents: Individuals or households, Not-for profit institutions, and State, Local, or Tribal Government.

Number of Respondents: 1,038.

Frequency of Responses: Reporting: Other (two times a day for four weeks).

Total Burden Hours: 3,285.

Ruth Brown,
Departmental Information Collection Clearance Officer.

[FR Doc. 2016-26910 Filed 11-7-16; 8:45 am]

BILLING CODE 3410-30-P